DEPARTMENT OF LABOR

Employment and Training Administration

[TA-W-58,413]

Badger Paper Mills, Currently Known as BPM, Inc., Flexible Packaging Division, Oconto Falls, WI; Notice of Termination of Investigation

On February 24, 2006, the Department issued an Affirmative Determination Regarding Application for Reconsideration for the workers and former workers of the subject firm. The Department's notice will soon be published in the Federal Register.

The subject workers are covered by an active certification, TA-W-54,242, which expires on March 22, 2006. Consequently, further investigation in this case would serve no purpose, and the investigation has been terminated.

Signed at Washington, DC this 8th day of March 2006.
Elliott S. Kushner,
Certifying Officer, Division of Trade Adjustment Assistance.

[FR Doc. E6-4595 Filed 3-28-06; 8:45 am]

BILLING CODE 4510-30-P